DEPARTMENT OF ENERGY

Federal Energy Regulatory Commission

Combined Notice of Filings #1

Take notice that the Commission received the following electric rate filings:

Docket Numbers: ER19-2643-002.

Applicants: Duke Energy Florida, LLC.

Description: Tariff Amendment: DEF OATT Attachment G Amendment (FRCC Dissolution) to be effective 9/1/2019.

Filed Date: 10/17/19.

Accession Number: 20191017-5095.

Comments Due: 5 p.m. ET 11/7/19.

Docket Numbers: ER19-2828-002.

Applicants: AEP Ohio Transmission Company, Inc., Ohio Power Company, PJM Interconnection, L.L.C.

Description: Tariff Amendment: AEP submits an amendment to ILDSA, Service Agreement No. 1336 re: Attachment 1 to be effective 12/31/9998.

Filed Date: 10/17/19.

Accession Number: 20191017-5067.

Comments Due: 5 p.m. ET 11/7/19.

Docket Numbers: ER20-129-000.

Applicants: Midcontinent Independent System Operator, Inc.

Description: § 205(d) Rate Filing: 2019-10-16_Resources with long-term planned outages filing to be effective 2/1/2020.

Filed Date: 10/16/19.

Accession Number: 20191016-5194.

Comments Due: 5 p.m. ET 11/6/19.

Docket Numbers: ER20-130-000.

Applicants: Buffalo Ridge II LLC.

Description: Tariff Cancellation: Notice of Cancellation of Reactive Power Rate Schedule to be effective 12/16/2019.

Filed Date: 10/16/19.

Accession Number: 20191016-5195.

Comments Due: 5 p.m. ET 11/6/19.

Docket Numbers: ER20-131-000.

Applicants: Midcontinent Independent System Operator, Inc.

Description: § 205(d) Rate Filing: 2019-10-17_SA 3362 ATC-Quilt Block Wind Farm II GIA (J807) to be effective 10/3/2019.

Filed Date: 10/17/19.

Accession Number: 20191017-5072.

Comments Due: 5 p.m. ET 11/7/19.

Docket Numbers: ER20-132-000.

Applicants: Midcontinent Independent System Operator, Inc.

Description: § 205(d) Rate Filing: 2019-10-17_SA 3363 ATC-Marathon Wind Farm GIA (J821) to be effective 10/3/2019.

Filed Date: 10/17/19.

Accession Number: 20191017-5074.

Comments Due: 5 p.m. ET 11/7/19.

Docket Numbers: ER20-133-000.

Applicants: PacifiCorp.

Description: § 205(d) Rate Filing: BPA Construct Agmt for Green Springs BAA Move to be effective 12/17/2019.

Filed Date: 10/17/19.

Accession Number: 20191017-5133.

Comments Due: 5 p.m. ET 11/7/19.

Docket Numbers: ER20-134-000.

Applicants: Cardinal Point LLC.

Description: Baseline eTariff Filing: Cardinal Point LLC's Market-Based Rate Tariff to be effective 12/17/2019.

Filed Date: 10/17/19.

Accession Number: 20191017-5135.

Comments Due: 5 p.m. ET 11/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2019.
Kimberly D. Bose,
Secretary.

[FR Doc. 2019-23093 Filed 10-22-19; 8:45 am]

BILLING CODE 6717-01-P